COMMISSION ON CIVIL RIGHTS

Sunshine Act Notice

AGENCY: United States Commission on Civil Rights.

ACTION: Notice of meeting.

Date and Time: Monday, July 28, 2008; 10 a.m.

Place: Meeting to be conducted via teleconference; Call in number: 800-597-7623.

Meeting Agenda

I. Approval of Agenda

II. State Advisory Committee Issues

• Arkansas SAC

• Wisconsin SAC

III. Program Planning

• DOT Guidance Regarding Disadvantaged Business Enterprise (“DBE”) Program

• Discussion of ABA Documents Held by the Department of Education

IV. Management and Operations

• Feasibility of Hiring Temporary Special Assistants

• Discussion of FY2008 Spending Options

V. Future Agenda Items

VI. Adjourn

Contact Person for Further Information: Lenore Ostrowsky, Acting Chief, Public Affairs Unit (202) 376-8582.

Dated: July 16, 2008.
David Blackwood,
General Counsel.

[FR Doc. 08-1451 Filed 7-16-08; 3:26 pm]

BILLING CODE 6335-01-P